DEPARTMENT OF ENERGY

10 CFR Part 430

[EERE-2021-BT-STD-0011]

RIN 1904-AE99

Energy Conservation Program: Energy Conservation Standards for Ceiling Fans

AGENCY: Office of Energy Efficiency and Renewable Energy, Department of Energy.

ACTION: Extension of public comment period.

SUMMARY: On May 7, 2021, the U.S. Department of Energy (“DOE”) published an early assessment request for information (“RFI”) undertaking an early assessment review for amended energy conservation standards for ceiling fans to determine whether to amend applicable energy conservation standards for this product. The notice provided an opportunity for submitting written comments, data, and information by June 7, 2021. DOE received a request from the Air Movement and Control Association (AMCA) and the American Light Association (ALA) for a comment period extension of 45 additional days. AMCA and ALA stated that an extension would improve the quality of the information industry submits to the department and increase the likelihood of presenting the department with consensus recommendations on many of the questions it is asking. DOE has reviewed these requests and is granting an extension of the public comment period for 21 days to allow public comments to be submitted until June 28, 2021.

DATES: The comment period for the RFI published on May 7, 2021 (86 FR 24538) is extended. DOE will accept comments, data, and information regarding this RFI received no later than June 28, 2021.

ADDRESSES: Interested persons are encouraged to submit comments using the Federal eRulemaking Portal at www.regulations.gov. Follow the instructions for submitting comments. Alternatively, interested persons may submit comments by email to the following address: CeilingFans2021STD0011@ee.doe.gov. Include “Ceiling Fans Early Assessment Energy Conservation Standard RFI” and docket number EERE-2021-BT-STD-0011 and/or RIN number 1904-AE99 in the subject line of the message. Submit electronic comments in WordPerfect, Microsoft Word, PDF, or ASCII file format, and the use of special characters or any form of encryption. No telefacsimilies (“faxes”) will be accepted.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www.regulations.gov/docket/EERE-2021-BT-STD-0011. The docket web page contains instructions on how to access all documents, including public comments, in the docket.

FOR FURTHER INFORMATION CONTACT: Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket contact the Appliance and Equipment Standards Program staff at (202) 287-1445 or by email: ApplianceStandardsQuestions@ee.doe.gov.

SUPPLEMENTARY INFORMATION: On May 7, 2021, DOE published a notice that it is undertaking an early assessment review for amended energy conservation standards for ceiling fans to determine whether to amend applicable energy conservation standards for this product. Specifically, through the RFI, DOE requested data and information to evaluate whether amended energy conservation standards would result in significant savings of energy; be technologically feasible; and be economically justified. 86 FR 24538. On May 19, 2021, interested parties in the matter the Air Movement and Control Association (AMCA) and the American Light Association (ALA) jointly requested an extension of the comment period extension for an 45 additional days. (AMCA and ALA, No. 2 at p. 1).

DOE has reviewed the request and is extending the comment period to allow additional time for interested parties to submit comments. As noted, the RFI was issued as part of the early assessment stages of rulemaking to consider amendments to the energy conservation standards for ceiling fans. If DOE determines that amended energy conservation standards may be appropriate, additional notices will be published (e.g., a notice of proposed rulemaking) providing interested parties with an additional opportunity to submit comment. As such, DOE has determined that providing an additional 21 days is sufficient for this preliminary stage. Therefore, DOE is extending the comment period to June 28, 2021.

Signing Authority

This document of the Department of Energy was signed on May 26, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 27, 2021.
Treena V. Garrett,
Federal Register Liaison Officer, U.S. Department of Energy.

[FR Doc. 2021-11561 Filed 6-2-21; 8:45 am]

BILLING CODE 6450-01-P